FEDERAL FINANCIAL INSTITUTIONS EXAMINATION COUNCIL

12 CFR Part 1102

[Docket No. AS99-1]

Appraisal Subcommittee; Appraiser Regulation; Disclosure of Information

Correction

In rule document 99-33476 beginning on page 72494, in the issue of Tuesday, December 28, 1999, make the following correction:

§ 1102.306 [Corrected]

On page 72498, in the first column, § 1102.306 paragraph “(a)(2)(ii)” should read “(a)(2)(iv)”

[FR Doc. C9-33476 Filed 5-18-00; 8:45 am]

BILLING CODE 1505-01-D